DEPARTMENT OF COMMERCE

National Oceanic and Atmospheric Administration

RIN 0648-XL85

Record of Decision (ROD) for the Final Environmental Impact Statement/Environmental Impact Report for Replacement of the National Oceanic and Atmospheric Administration's Southwest Fisheries Science Center Located in La Jolla, California

AGENCY: National Oceanic and Atmospheric Administration (NOAA), Commerce.

ACTION: National Environmental Policy Act (NEPA) Record of Decision.

SUMMARY: NOAA issues this notice to inform the public that an ROD has been approved for replacement of the Southwest Fisheries Science Center (SWFSC) at the Scripps Institution of Oceanography (SIO) within the University of California at San Diego (UCSD) campus in La Jolla, California. NOAA signed the ROD on August 20, 2009.

ADDRESSES: Request for copies of the ROD may be directed to Mr. Mark Eberling, NOAA Project Planning and Management Decision, Western Region, 7600 Sand Point Way, N.E., WC41, Bin 15700, Seattle, WA 98115-0070. Copies of the Final EIS/EIR are available for review at the UCSD library, at the existing SWFSC, and at La Jolla Public Library. Additionally, an electronic copy is available at http://www.seco.noaa.gov/ENV/NEPA/Sites/LaJolla_NEPA.html.

FOR FURTHER INFORMATION CONTACT: Mr. Mark Eberling, NOAA Project Planning and Management Decision, Western Region, 7600 Sand Point Way, N.E., WC41, Bin 15700, Seattle, WA 98115-0070. Tel. (206)526-6477, email: mark.a.eberling@noaa.gov

SUPPLEMENTARY INFORMATION: The National Marine Fisheries Services (NMFS) is responsible for the management, conservation, and protection of living marine resources within the U.S. Exclusive Economic Zone. The SWFSC in La Jolla, CA manages and conducts research involving Pacific fisheries and marine mammal research for the protection and management of these resources throughout Western Pacific and Antarctica. The existing SWFSC facility, built in 1964, is currently adjacent to a coastal bluff that is undergoing severe erosion and retreat.

NOAA will implement the proposed action analyzed in the Final Environmental Impact Statement/Environmental Impact Report. NOAA will construct and operate a new SWFSC building at a 3.3 acre undeveloped property located across La Jolla Shores Drive from the existing facility. A minimum of two existing at-risk SWFSC structures will be removed and the property currently used by NOAA will be returned to UCSD. The new building will be constructed in conformance with Leadership in Energy and Environmental Design principles to minimize impacts to the environment. The ROD contains a number of measures to mitigate environmental effect of the planned action.

Dated: September 11, 2009.
William F. Broglie,
Chief Administrative Officer, National Oceanic and Atmospheric Administration, Department of Commerce.

[FR Doc. E9-22416 Filed 9-16-09; 8:45 am]

BILLING CODE 3510-22-S